DEPARTMENT OF HOUSING AND URBAN DEVELOPMENT

[Docket No. FR-4809-N-23]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, address to Shirley Kramer, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Coast Gurard: Ms. Teresa Sheinberg, U.S. Coast Guard, Room 6109, 2100 Second St., SW., Washington, DC 20593-0001; (202) 267-6142; Energy: Mr. Andy Duran, Department of Energy, Office of Engineering & Construction Management, ME-90, Washington, DC 20585; (202) 586-4548; GSA: Mr. Brian K. Polly, Assistant Commissioner, General Services Administration, Office of Property Disposal, 18th and F Streets, NW., Washington, DC 20405; (202) 501-0052; Navy: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: May 28, 2003.
John D. Garrity,
Director, Office of Special Needs Assistance Programs.

TITLE V, FEDERAL SURPLUS PROPERTY PROGRAM FEDERAL REGISTER REPORT FOR 6/6/03

Suitable/Available Properties

Buildings (by State)

California

Calexico Border Patrol Station

813 Andrade Ave.

Calexico Co: CA 92231-

Landholding Agency: GSA

Property Number: 54200320012

Status: Excess

Comment: 5600 sq. ft. main bldg., and 6845 sq. ft. parking/garage structure, need repairs

GSA Number: 9-J-CA-1539

Bell Federal Service Center

5600 Rickenbacker Road

Bell Co: Los Angeles CA 90201-

Landholding Agency: GSA

Property Number: 54200320009

Status: Excess

Comment: Correction/Republished: 9 bldgs., various sq. ft., need repair, portion occupied, restricted access, presence of asbestos/lead paint/PCBs, most recent use—warehouse/office

GSA Number: 9-G-CA-1575

Unsuitable Properties

Buildings (by State)

California

Bldg. 141MG

Naval Recreation Center

Naval Base

San Diego Co: CA

Landholding Agency: Navy

Property Number: 77200320054

Status: Excess

Reason: Extensive deterioration

Florida

8 Bldgs.

Naval Air Station

Milton Co: FL 32570-6001

Location: 1440, 1440A, 1437, 1444, 1444A, 1444G, 2927, 2886

Landholding Agency: Navy

Property Number: 77200320055

Status: Excess

Reasons: Within 2000 ft. of flammable or explosive material; Secured Area; Extensive deterioration

Hawaii

Change Room

Base Camp

Kahoolawe Co: Maui HI

Landholding Agency: Navy

Property Number: 77200320059

Status: Excess

Reasons: Not accessible by road; Within 2000 ft. of flammable or explosive material

Electric Generator Bldg.

Base Camp

Kahoolawe Co: Maui HI

Landholding Agency: Navy

Property Number: 77200320060

Status: Excess

Reasons: Not accessible by road; Within 2000 ft. of flammable or explosive material

Compressor Shed

Base Camp

Kahoolawe Co: Maui HI

Landholding Agency: Navy

Property Number: 77200320061

Status: Excess

Reasons: Not accessible by road; Within 2000 ft. of flammable or explosive material

System Shed

Base Camp

Kahoolawe Co: Maui HI

Landholding Agency: Navy

Property Number: 77200320062

Status: Excess

Reasons: Not accessible by road; Within 2000 ft. of flammable or explosive material

Idaho

Bldg. TAN 616

Idaho Natl Eng & Env Lab

Scoville Co: Butte ID 83415-

Landholding Agency: Energy

Property Number: 41200320007

Status: Excess

Reason: contamination

Illinois

Bldgs. T60, 61, 86, 87

Fermi National Accelerator

Laboratory

Batavia Co: DuPage IL 60510-

Landholding Agency: Energy

Property Number: 412003290009

Status: Excess

Reason: Extensive deterioration

Maryland

Bldg. 503A

Naval Air Station

Patuxent River Co: MD

Landholding Agency: Navy

Property Number: 77200320056

Status: Excess

Reason: Extensive deterioration

Texas

6 Bldgs.

Pantex Paint

Amarillo Co: Carson TX 79120-

Location: 12-008, 12-R-008, 12-059, 12-059E, 12-059V, 12-R-059

Landholding Agency: Energy

Property Number: 41200320009

Status: Unutilized

Reasons: Within 2000 ft. of flammable or explosive material; Secured Area

Bldgs. 12-017E, 12-019E

Pantex Plant

Amarillo Co: Carson TX 79120-

Landholding Agency: Energy

Property Number: 41200320010

Status: Unutilized

Reasons: Within 2000 ft. of flammable or explosive material; Secured Area

Virginia

Bldg. NH-42

Naval Station

Norfolk Co: VA 23511-

Landholding Agency: Navy

Property Number: 77200320057

Status: Excess

Reason: Extensive deterioration

Bldgs. SP-271, SP-376

Naval Station

Norfolk Co: VA 23511-3095

Landholding Agency: Navy

Property Number: 77200320058

Status: Excess

Reason: Extensive deterioration

Bldg. CG-02

CAMSLANT

Pungo Co: Princess Anne VA

Landholding Agency: Coast Guard

Property Number: 88200320001

Status: Underutilized

Reason: Secured Area

Bldg. CG-05

CAMSLANT

Virginia Beach Co: Princess Anne VA

Landholding Agency: Coast Guard

Property Number: 88200320002

Status: Underutilized

Reason: Secured Area

[FR Doc. 03-13934 Filed 6-5-03; 8:45 am]

BILLING CODE 4210-29-M